DEPARTMENT OF JUSTICE

Drug Enforcement Administration

[Docket No. DEA-1216]

Bulk Manufacturer of Controlled Substances Application: Veranova, L.P.; Correction

AGENCY: Drug Enforcement Administration, Justice.

ACTION: Notice; correction.

SUMMARY: The Drug Enforcement Administration (DEA) published a document in the Federal Register on June 12, 2023, concerning a notice of application for bulk manufacturer of Controlled Substances. As that document indicated the registrant's wrong state in the address.

SUPPLEMENTARY INFORMATION:

Correction

In the Federal Register of June 12, 2023, in FR Doc. 2023-12433 (88 FR 38099), on page 1, under Supplementary Information correct the registrant's address to read 25 Patton Road, Pharmaceutical Service, Devens, Massachusetts 01434-3803.

Matthew Strait,
Deputy Assistant Administrator.

[FR Doc. 2023-15615 Filed 7-21-23; 8:45 am]

BILLING CODE P